NUCLEAR REGULATORY COMMISSION

[Docket Nos. 50-445 and 50-446; NRC-2020-0110]

Issuance of Multiple Exemptions in Response to COVID-19 Public Health Emergency

AGENCY: Nuclear Regulatory Commission.

ACTION: Exemptions; issuance.

SUMMARY: The U.S. Nuclear Regulatory Commission (NRC) issued two exemptions in response to requests from one licensee. The exemptions afford the licensee temporary relief from certain requirements under NRC regulations. The exemptions are in response to the licensee's requests for relief due to the coronavirus 2019 disease (COVID-19) public health emergency (PHE). The NRC is issuing a single notice to announce the issuance of the exemptions.

DATES: During the period from May 17, 2021, to May 19, 2021, the NRC granted two exemptions in response to requests submitted by one licensee from April 16, 2021, to April 21, 2021.

ADDRESSES: Please refer to Docket ID NRC-2020-0110 when contacting the NRC about the availability of information regarding this document. You may obtain publicly available information related to this document using any of the following methods:

• Federal Rulemaking Website: Go to https://www.regulations.gov and search for Docket ID NRC-2020-0110. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: James Danna, Office of Nuclear Reactor Regulation, U.S. Nuclear Regulatory Commission, Washington, DC 20555-0001; telephone: 301-415-7422, email: James.Danna@nrc.gov.

SUPPLEMENTARY INFORMATION:

I. Introduction

During the period from May 17, 2021, to May 19, 2021, the NRC granted two exemptions in response to requests submitted by one licensee from April 16, 2021, to April 21, 2021. These exemptions temporarily allow the licensee to deviate from certain requirements (as cited in this notice) of various parts of chapter I of title 10 of the Code of Federal Regulations (10 CFR).

The exemption from certain requirements of 10 CFR part 50, appendix E, “Emergency Planning and Preparedness for Production and Utilization Facilities,” section IV.F., “Training,” for Vistra Operations Company LLC (for Comanche Peak Nuclear Power Plant, Unit Nos. 1 and 2), grants a temporary exemption from the offsite biennial emergency preparedness exercise requirement. The exemption affords this licensee temporary relief from the requirements of 10 CFR part 50, appendix E, regarding offsite response organization (ORO) participation in the biennial emergency preparedness exercise for calendar year 2021. This exemption will not adversely affect the emergency response capability of the facility because the licensee has conducted numerous drills, exercises, and other training activities that have exercised the licensee's emergency response strategies since the last evaluated biennial emergency preparedness exercise and that State, county and local OROs have participated therein.

The exemption from certain requirements of 10 CFR part 73, appendix B, “General Criteria for Security Personnel,” section VI, “Nuclear Power Reactor Training and Qualification Plan for Personnel Performing Security Program Duties,” for Vistra Operations Company LLC (for Comanche Peak Nuclear Power Plant, Unit Nos. 1 and 2) ensures that these regulatory requirements do not unduly limit licensee flexibility in using personnel resources to most effectively manage the impacts of the COVID-19 PHE on maintaining the safe and secure operation of this facility and the implementation of the licensee's NRC-approved security plans, protective strategy, and implementing procedures. The licensee has committed to certain security measures to ensure response readiness and for its security personnel to maintain performance capability.

The NRC is providing compiled tables of exemptions using a single Federal Register notice for COVID-19 related exemptions instead of issuing individual Federal Register notices for each exemption. The compiled tables in this notice provide transparency regarding the number and type of exemptions the NRC has issued. Additionally, the NRC publishes tables of approved regulatory actions related to the COVID-19 PHE on its public website at https://www.nrc.gov/about-nrc/covid-19/reactors/licensing-actions.html.

II. Availability of Documents

The tables in this notice provide the facility name, docket number, document description, and ADAMS accession number for each exemption issued. Additional details on each exemption issued, including the exemption request submitted by the respective licensee and the NRC's decision, are provided in each exemption approval listed in the tables in this notice. For additional directions on accessing information in ADAMS, see the ADDRESSES section of this document.

Comanche Peak Nuclear Power Plant, Unit Nos. 1 and 2
Docket Nos. 50-445 and 50-446
Document description | ADAMS accession No.
Comanche Peak Nuclear Power Plant, Unit Nos. 1 and 2—One-Time Request for Exemption from the Biennial Emergency Preparedness Exercise Requirements in 10 CFR part 50, appendix E, sections IV.F.2.b and IV.F.2.c, dated April 21, 2021 | ML21111A364
Comanche Peak Nuclear Power Plant, Unit Nos. 1 and 2—Temporary Exemption from Requirements of 10 CFR part 50, appendix E, sections IV.F.2.b and IV.F.2.c (EPID L-2021-LLE-0028 [COVID-19]), dated May 17, 2021 | ML21119A349
Comanche Peak Nuclear Power Plant, Unit Nos. 1 and 2—Request for a Temporary Exemption from 10 CFR part 73, appendix B, section VI, subsection A.7 Regarding Annual Force-on-Force (FOF) Exercises, due to COVID-19 PHE, dated April 16, 2021 | ML21106A293
Comanche Peak Nuclear Power Plant, Unit Nos. 1 and 2—Supplemental Information Regarding Request for a Temporary Exemption from 10 CFR part 73, appendix B, section VI, subsection A.7 Regarding Annual Force-on-Force (FOF) Exercises [COVID-19], dated May 12, 2021 | ML21132A126
Comanche Peak Nuclear Power Plant, Unit Nos. 1 and 2—Temporary Exemption from Annual Force-on-Force Exercise Requirement of 10 CFR part 73, appendix B, “General Criteria for Security Personnel,” subsection A.7 (EPID L-2021-LLE-0024 [COVID-19]), dated May 19, 2021 | ML21133A003

Dated: June 24, 2021.
For the Nuclear Regulatory Commission.
James G. Danna,
Chief, Plant Licensing Branch I, Division of Operating Reactor Licensing, Office of Nuclear Reactor Regulation.

[FR Doc. 2021-13887 Filed 6-29-21; 8:45 am]

BILLING CODE 7590-01-P